GOVERNMENT PUBLISHING OFFICE

Depository Library Council to the Director; Meeting

The Depository Library Council (DLC) to the Director, Government Publishing Office (GPO) will meet on Monday, October 16, 2017 through Wednesday, October 18, 2017 in Arlington, Virginia. The sessions will take place from 8 a.m. to 5:30 p.m., Monday and Tuesday and 8:00 a.m. to 12:30 p.m., on Wednesday. The meeting will be held at the Doubletree Hotel, 300 Army Navy Drive, Arlington, Virginia. The purpose of this meeting is to discuss the Federal Depository Library Program. All sessions are open to the public. The United States Government Publishing Office is in compliance with the requirements of Title III of the Americans with Disabilities Act and meets all Fire Safety Act regulations.

Davita Vance-Cooks,
Director, Government Publishing Office.

[FR Doc. 2017-21533 Filed 10-5-17; 8:45 am]

BILLING CODE 1520-01-P